DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) (60 FR 56605 as amended November 6, 1995; as last amended at 67 FR 46519, July 15, 2002).

This notice establishes a centralized Division of Grants Management Operations (DGMO) within the Office of Management and Program Support (OMPS), removes the grants management functions in the Bureau of Primary Health Care, the Bureau of Health Professions, the Maternal Child Health Bureau and the HIV/AIDS Bureaus and moves them to a newly established Division of Grants Management Operations within the OMPS; establishes a centralized Division of Independent Review within the OMPS; abolishes the Office of Peer Review in the Bureau of Health Professions; abolishes the Division of Grants and Procurement Management within the OMPS; establishes a Division of Procurement Management within OMPS; moves the HRSA Small and Disadvantaged Business function from the Office of Equal Opportunity and Civil Rights to the newly established Division of Procurement Management within OMPS; moves the Office of International Health Affairs to the Office of the Administrator; establishes a Division of Border Health within the Office of International Health Affairs; establishes the Office of Financial Policy and Oversight (OFPO); changes the name of and revises the functional statement of the Office of Field Operations which becomes the Office of Performance Review; revises the functional statement for the Office of Planning and Evaluation; and revises the functional statements for the Bureau of Primary Health Care, the Bureau of Health Professions, the Maternal Child Health Bureau, the HIV/AIDS Bureau, and the Office of Special Programs to reflect the above changes.

Section RA-00, Mission

The Health Resources and Services Administration (HRSA) directs national health programs which improve the health of the Nation by assuring quality health care to underserved, vulnerable and special-need populations and by promoting appropriate health professions workforce capacity and practice, particularly in primary care and public health.

Section RA-10, Organization

The Office of the Administrator is headed by the Administrator, Health Resources and Services Administration (OA) who reports directly to the Secretary. The OA includes the following components:

(1) Immediate Office of the Administrator (RA);

(2) Office of Equal Opportunity and Civil Rights (RA2);

(3) Office of Planning and Evaluation (RA5);

(4) Office of Communications (RA6);

(5) Office of Minority Health (RA9);

(6) Office of Legislation (RAE);

(7) Office of Financial Policy and Oversight (RAJ) and;

(8) Office of International Health Affairs (RAH)

1. In the Office of the Administrator establish the Office of Financial Policy and Oversight as follows:

Office of Financial Policy and Oversight (RAJ)

Provides national leadership in the administration and assurance of the financial integrity of HRSA's programs. Provides oversight over all HRSA activities to ensure that HRSA's resources are being properly used and protected. Specifically, OFPO: (1) Serves as the Administrator's principal source for grants policy and financial integrity of HRSA programs; (2) exercises oversight over the Agency's business processes related to assistance programs; and (3) facilitates plans, directs and coordinates the administration of HRSA grant policies.

2. Establish the Division of Financial Integrity in the Office of Financial Policy and Oversight as follows:

Division of Financial Integrity (RAJ1)

(1) Serves as the Agency's focal point for coordinating financial audits of grantees; (2) coordinates the external financial assessment of HRSA grantees and the resolution of any audit findings; (3) conducts the pre- and post-award review of grant applicants' and grantees' accounting systems; (4) conducts ad hoc studies and reviews related to the financial integrity of the HRSA business processes related to assistance programs; (5) serves as the agency's liaison with the Office of Inspector General for issues related to grants; (6) manages and maintains the Agency's hot line for reporting fraudulent fiscal activities; and (7) establishes an assessment model for grantee oversight.

3. Establish the Division of Grants Policy in the Office of Financial Policy and Oversight as follows:

Division of Grants Policy (RAJ2)

(1) Advises on grants policy issues and assists in the identification and resolution of grants policy issues and problems; (2) analyzes, develops and implements the Agency's grants policy; (3) coordinates the review of Departmental grants policies and ensures that Agency policies and procedures are revised to reflect appropriate changes; (4) conducts review of the limited competition process; (5) monitors and reviews the Agency's program application guidance; (6) serves as the grants liaison for the Agency's electronic systems and processes; (7) coordinates the development of standardized documents and processes for the Agency related to grants; (8) reviews Agency programs for proper interpretation and timely implementation and application of grants management policies; and (9) serves as the coordinator for General Accounting Office and OIG studies on HRSA Programs.

4. Delete the functional statement for the Office of Planning and Evaluation (RA5) in its entirety and replace as follows:

Office of Planning and Evaluation (RA5)

The OPE (1) Serves as the Administrator's primary staff unit for coordinating the agency's strategic, evaluation and research planning processes; (2) oversees communication and maintains liaison between the Administrator, other OPDIVs, higher levels of the Department and other Departments on all matters involving analysis of program policy undertaken in the Agency; (3) prepares policy analysis papers and other planning documents as required in the Administration's strategic planning process; (4) analyzes budgetary data with regard to planning guidelines; (5) collaborates in the development of budgets, performance plans, and performance reports required under the Government Performance and Results Act (GPRA); (6) coordinates activity related to the prevention agenda and Healthy People activities; (7) analyzes and coordinates the information needs of the Agency; and (8) serves as the focal point for the advancement of managed care systems for safety net providers serving at-risk populations.

5. Delete in its entirety the functional statement for the Office of International Health Affairs in the OMPS and establish the Office of International Health Affairs (RAH) in the Office of the Administrator as follows:

Office of International Health Affairs (RAH)

The Office of International Health Affairs serves as a focal point within the Health Resources and Services Administration (HRSA) for leadership, coordination, and advancement of international health activities relating to health care services for vulnerable and at-risk populations and for training programs for health professionals. The Office carries out the following functions in coordination with the Department and State Department to the extent authorized by laws within the authority of HRSA. Specifically, the OIHA: (1) Provides leadership within HRSA for the support for international health in coordinating policy development with other Departmental agencies; (2) provides technical and other support to HRSA components as they interface with Departmental international health activities; (3) develops working relationships with private sector providers and HRSA grantees to assure mutual areas of cooperation, maximization of expertise and coordination as it relates to international health; (4) advises the HRSA Administrator on strategies to maximize the participation of the Agency and its components in international health programs and activities; (5) works with foundations, private agencies and other Federal, State, and local agencies for the effective development of policies and resources relating to health care for vulnerable populations world-wide; and (6) coordinates international travel and visitor programs within the jurisdiction of HRSA.

6. Establish the Division of Border Health within the Office of International Health Affairs as follows:

Division of Border Health (RAH1)

Provides leadership and direction to coordinate the Agency's assets in border regions. Specifically, DBH: (1) Assures that the Agency's engagement with regions of the border is strategic, performance based, builds partnerships and alliances, and maximizes utilization of Agency assets; (2) assures agency-wide coordination by establishing border health program policies and procedures including tracking mechanisms; (3) conducts management and evaluation studies to improve the health delivery system on the border; (4) serves as the secretariat and chair for the Agency's Border Health Workgroup; (5) plans, directs, and coordinates the Agency's border health activities; and (6) plans, coordinates and facilitates the agency agreements activities with border health issues.

7. Delete the functional statement for the Office of Equal Opportunity and Civil Rights (RA2) in its entirety and replace as follows:

Office of Equal Opportunity and Civil Rights (RA2)

Directs, coordinates, develops, and administers HRSA's equal opportunity and civil rights activities. Specifically: (1) Provides advice, counsel, and recommendations to HRSA personnel, including regional divisions, on equal opportunity and civil rights and represents HRSA in all equal employment opportunity (EEO) areas; (2) administers affirmative action programs designed to ensure equality of opportunity in employment; (3) manages the Civil Service complaints system and prepares final HRSA decisions; (4) manages the complaints system for Public Health Service (PHS) Commissioned Corps personnel under the provisions of PHS Personnel Instruction 6 and issues proposed dispositions; (5) develops and directs implementation of the requirements of Section 504 of the Rehabilitation Act of 1973, Title VI of the Civil Rights Act of 1964, the Age Discrimination Act of 1975 and the Americans With Disabilities Act, as they apply to recipients of HRSA funds; (6) provides technical assistance and guidance to HRSA on developing education and training programs regarding equal opportunity and civil rights; (7) approves settlement agreements and attorney fees; and (8) applies all applicable laws, guidelines, rules and regulations in accordance with those of the DHHS Office of Equal Employment Opportunity and Civil Rights.

8. Revise the functional statement of the Office of Management and Program Support as follows:

Office of Management and Program Support (RS)

Provides agency-wide leadership, program direction, and coordination to all phases of management. Specifically, OMPS: (1) Provides management expertise and staff advice and support to the Administrator in program and policy formulation and execution; (2) plans, directs, and coordinates the Agency's activities in the areas of administrative management, financial management, human resources management, including labor relations, debt management, procurement management, real and personal property accountability and management, alternative dispute resolution and administrative services; (3) directs and coordinates the development of policy and regulations; (4) oversees the development of annual operating objectives and coordinates HRSA work planning and appraisals; (5) plans, directs and carries out the independent review of grant applications for all of HRSA's programs; (6) plans, directs and carries out the grants officer functions for all of HRSA's programs; (7) directs and coordinates the Agency's organization, functions and delegations of authority programs; and (8) administers the Agency's Executive Secretariat and committee management functions.

9. In the Office of Management and Program Support delete the functional statement for the Division Grants and Procurement Management and establish the Division of Grants Management Operations as follows:

Division of Grants Management Operations (RSA)

(1) Exercises the sole responsibility within HRSA for all aspects of Grant and Cooperative Agreement receipt and award processes; (2) participates in the planning, development, and implementation of policies and procedures for grants and other federal financial assistance mechanisms; (3) provides assistance and technical consultation to program offices in the development and interpretation of laws, regulations, policies, and guidelines relative to the Agency's grant and cooperative agreement programs; (4) develops standard operating procedures, methods and materials for the administration of the Agency's grants programs; (5) establishes standards and guides for grants management operations; (6) reviews grantee financial status reports and prepares reports and analyses on the grantee's use of funds; (7) provides technical assistance to applicants and grantees on financial and administrative aspects of grant projects; (8) provides data and analyses as necessary for budget planning, hearings, operational planning and management decisions; and (9) participates in the development of program guidance and instructions for grant competitions.

10. Establish the Division of Procurement Management in the Office of Management and Program Support as follows:

Division of Procurement Management (RS4)

Provides leadership in the planning, development, and implementation of policies and procedures for contracts. Specifically, DPM: (1) Exercises the sole responsibility within HRSA for the award and management of contracts; (2) provides advice and consultation of interpretation and application of the Department of Health and Human Services policies and procedures governing contracts management; (3) develops operating procedures and policies for the Agency's contracts programs; (4) establishes standards and guides for and evaluates contracts operations throughout the Agency; (5) coordinates the Agency's positions and actions with respect to the audit of contracts; (6) maintains liaison directly with or through Agency Bureaus or Offices with contractors, other organizations, and various components of the Department; and (7) provides leadership, guidance, and advice on the promotion of the activities in HRSA relating to procurement and material management governed by the Small Business Act of 1958, Executive Order 11625, and other statutes and national policy directives for augmenting the role of private industry, and small and minority businesses as sources of supply to the Government and Government contractors.

11. Establish the Division of Independent Review within the Office of Management and Program Support as follows:

Division of Independent Review (RS9)

(1) Plans, directs and carries out HRSA's independent review of applications for grants and cooperative agreement funding, and assures that the process is fair, open, and competitive; (2) develops, implements and maintains policies and procedures necessary to carry out the Agency's independent review/peer review processes; (3) provides technical assistance to Independent Reviewers ensuring that reviewers are aware of and comply with the appropriate administrative policies and regulations; (4) provides technical advice and guidance to the Agency regarding the independent review processes; (5) coordinates and assures the development of program policies and rules relating to the HRSA's extramural grant activities; and (6) provides HRSA Offices and Bureaus with the final disposition of all reviewed applications.

12. Change the name of the Office of Field Operations and the names of its Field Offices and revise its functions as follows:

Office of Performance Review (RE)

Section RF-00, Mission

The Mission of the Office of Performance Review (OPR) is to improve access to quality health care and reduce health disparities by effectively reviewing and enhancing the performance of HRSA-supported programs within communities and States.

Section RF-10, Organization

The OPR is comprised of a Headquarters unit and ten regional operating divisions. The Associate Administrator, who reports directly to the HRSA Administrator, heads the OPR. A Division Director, who reports directly to the Associate Administrator, heads each of the ten OPR regional operating divisions. The OPR is organized as follows:

1. Headquarters (RE)

2. Regional Divisions (RF)

a. Boston Regional Division (RF12) serves Connecticut, Maine, Massachusetts, New Hampshire, Rhode Island and Vermont.

b. New York Regional Division (RF13) serves New Jersey, New York, Puerto Rico and the United States Virgin Islands.

c. Philadelphia Regional Division (RF11) serves Delaware, Maryland, Pennsylvania, Virginia, West Virginia and the District of Columbia.

d. Atlanta Regional Division (RF21) serves Alabama, Florida, Georgia, Kentucky, Mississippi, North Carolina, South Carolina and Tennessee.

e. Chicago Regional Division (RF 31) serves Illinois, Indiana, Michigan, Minnesota, Ohio and Wisconsin.

f. Dallas Regional Division (RF 41) serves Arkansas, Louisiana, New Mexico, Oklahoma and Texas.

g. Kansas City Regional Division (RF32) serves Iowa, Kansas, Missouri and Nebraska.

h. Denver Regional Division (RF42) serves Colorado, Montana, North Dakota, South Dakota, Utah and Wyoming.

i. San Francisco Regional Division (RF51) serves Arizona, California, Hawaii, Nevada, American Samoa, Commonwealth of the Northern Mariana Islands, Federated States of Micronesia, Guam, Republic of the Marshall Islands and the Republic of Palau.

j. Seattle Regional Division (RF52) serves Alaska, Idaho, Oregon and Washington.

Section RF-20, Function

Serves as the Agency's focal point for reviewing and enhancing the performance of HRSA-supported programs within communities and States. Specifically, OPR: (1) Tracks regional and State trends in public health, health care and health policy, analyzing the impact on HRSA-supported programs; (2) conducts grantee performance reviews, providing programmatic and business management assessments, recommendations, on-site technical assistance and best practice identification; (3) performs State and community strategic partnership reviews, examining the collective effectiveness of HRSA-supported programs and facilitating collaboration in addressing priority health needs; (4) provides recommendations and input on HRSA and selected Departmental program designs, policies and initiatives; and (5) exercises line management authority related to the general administrative and management functions of OPR.

13. Revise the functional statement for the Maternal and Child Health Bureau (RM) as follows:

Maternal and Child Health Bureau (RM)

Provides national leadership and policy direction for the Maternal and Child Health Bureau programs. These programs are designed to improve the health of women of childbearing age, infants, children, adolescents, and their families, of children with special health needs, and of persons with hemophilia. Specifically, MCHB: (1) Coordinates the planning, development, implementation and evaluation of the programs and activities of the Bureau; (2) facilitates effective, collaborative relationships with other health and related programs; (3) establishes a program mission, goals, objectives and policy with broad Administration guidelines; (4) serves as the focal point for managing the Bureau-wide strategic planning operation as it relates to long and short range programmatic goals and objectives for the Bureau; (5) arranges and provides technical assistance to assure that the grantees meet program expectations; (6) serves as principal contact to the Agency, the Department, Office of Management and Budget (OMB), and the White House on matters concerning the health status of America's mothers and children; and (7) provides information and reports on the Bureau's programs to public, health, education and related professional associations, the Congress, other Federal agencies, OMB, and the White House.

14. In the Maternal and Child Health Bureau Office of Operations and Management delete the grants function and revise the Office of Operations and Management (RM1) as follows:

Office of Operations and Management (RM1)

Plans, directs, coordinates, and evaluates Bureau-wide administrative and management activities; coordinates and monitors program and administrative policy implementation and maintains close liaison with officials of the Agency, and the Office of the Secretary on matters relating to these activities. Specifically, OOM: (1) Serves as the Associate Administrator's and Bureau's principal source for management and administrative advice and assistance; (2) provides or serves as liaison for program support services and; (3) provides leadership on intergovernmental activities of the Bureau which requires central administrative direction or intergovernmental activities of the Bureau, which require central direction of cross-cutting administrative issues affecting program activities; (4) participates in the development of strategic plans, regulatory activities, policy papers, and legislative proposals relating to MCH programs; (5) plans, coordinates and facilitates the Bureau's agency agreements activities; (6) coordinates human resource activities for the Bureau; (7) provides guidance to the Bureau on financial management activities; (8) determines State allocations of MCH Block Grant funds based on formula and current census data; (9) provides organization and management analysis, develops policies and procedures for internal operation, and interprets and implements the Administration's management policies, procedures and systems; (10) coordinates the Bureau's program and administrative delegations of authority activities; (11) provides staff services in the operational planning and program analysis; (12) is responsible for paperwork management functions, including the development and maintenance of bureau manual issuances; (13) provides direction regarding new developments in office management activities; and (14) coordinates Bureau funds and resources for grants, contracts and cooperative agreements.

15. In the Maternal and Child Health Bureau revise the functions of the Division of State and Community Health (RM6) as follows:

Division of State and Community Health (RM6)

In collaboration with MCHB Divisions and Offices, serves as the organizational focus for the administration of responsibilities related to the MCH Block Grant to States Program. Specifically, DSCH: (1) Provides national leadership, direction, coordination, and administrative oversight related to the development and management of the State MCH Block Grant annual reports; (2) based on reviews of State Block grant applications and annual reports submitted by States, develops, plans, manages and monitors a Bureau-wide program of technical assistance and consultation in collaboration with other Bureau Divisions and related health programs; (3) develops and manages a program for the collection, analysis and dissemination of National and State Information and data to various constituencies including the public, States, and Congress about the Block Grant to States Program; (4) coordinates within this Agency and with other Federal programs (particularly Title XIX of the Social Security Act) to extend and improve comprehensive, coordinated services in the Block Grant to States Program; (5) develops, plans, manages and monitors the abstinence only education grant program to the States; (6) develops, plans, manages and monitors the State Systems Development Initiative (SSDI) grant to the States program; (7) participates in activities related to the Special projects of Regional and National Significance (SPRANS) program to facilitate the dissemination of effective knowledge related to State MCH functions; (8) monitors interagency agreements of Federal assignees to State MCH programs; (9) participates in the development of strategic plans, regulatory activities, policy papers, legislative proposals and budget submissions relating to health services for women of childbearing age, infants, children, adolescents, children with special health care needs and their families; (10) responsible for the administration of funds and other resources for grants, contracts, and cooperative agreements; and (11) develops Program Application and Guidance documents.

16. Delete the functional statement for the HIV/AIDS Bureau (RV) in its entirety and replace as follows:

HIV/AIDS Bureau (RV)

Provides leadership and direction for the HIV/AIDS programs and activities of the Bureau and oversees its relationship with other national health programs. Specifically: (1) Coordinates the formulation of an overall strategy and policy for HRSA AIDS programs; (2) coordinates the internal functions of the Bureau and its relationships with other national health programs; (3) establishes AIDS program objectives, alternatives, and policy positions consistent with broad Administration guidelines; (4) provides direction and leadership for the Agency's AIDS grants and contracts programs; (5) reviews AIDS related program activities to determine their consistency with established policies; (6) represents the Agency and the Department at AIDS related meetings, conferences and task forces; (7) serves as principal contact and advisor to the Department and other parties concerned with matters relating to planning and development of health delivery systems related to HIV/AIDS; (8) develops and administers operating policies and procedures for the Bureau; (9) directs and coordinates Bureau Executive Secretariat activities; (10) directs the Center for Quality; (11) serves in developing and coordinating Telehealth programs and in facilitating electronic dissemination of best practices in health care to health care professionals; (12) provides grantees/States with accurate and timely interpretations of the Bureau's program expectations, requirements, guidances, and Federal legislation; and (13) arranges and provides technical assistance to assure that the grantees meet program expectations.

17. In the HIV/AIDS Bureau delete the functional statement for the Office of Program Support (RV2) in its entirety and replace as follows:

Office of Program Support (RV2)

Plans, directs, coordinates and evaluates Bureau-wide administrative and management support activities. Specifically, OPS: (1) Serves as the Bureau's principal source for management and administrative advices and assistance; (2) assists in the development and administration of policies and procedures which govern the review and final recommendation for funding to the Associate Administrator; (3) provides guidance to the Bureau on financial management activities; (4) coordinates personnel activities for the Bureau and advises on the allocation of the Bureau's personnel resources; (5) provides organization and management analysis for the Bureau, develops policies and procedures for internal Bureau requirements, and interprets and implements, the Administration's management policies and procedures; (6) coordinates the Bureau's delegations of authority activities; (7) manages the Bureau's performance management systems; (8) provides or arranges for the provision of support services such as supply management, space management, manual issuances, forms, records, reports, and supports civil rights compliance activities; (9) provides direction regarding technological developments in office management activities; and (10) manages the Bureau's executive secretariat functions.

18. In the HIV/AIDS Bureau delete the functional statement for the Office of Science and Epidemiology (RV4) in its entirety and replace as follows:

Office of Science and Epidemiology (RV4)

Serves as the Bureau's principal source on HIV epidemiologic surveillance, program data collection and evaluation, medical and biometric research, and the development of new models of HIV care. The Office coordinates with all HRSA HIV/AIDS programs on the development and implementation of science and epidemiology activities. Specifically: (1) Develops and directs long and short range scientific activities; (2) plans, directs, coordinates and administers the Bureau's annual program evaluation strategy; (3) designs and implements special scientific studies of the impact and outcomes of Bureau health care programs; (4) carries out data collection and analysis activities that document the clients and services of Bureau programs; (5) collects and maintains information on the costs and quality associated with the Bureau's health care programs; (6) directs and manages the implementation and evaluation of priority models of care through the Special Programs of National Significance (Title XXVI, Part F of the PHS Act), including developing Program Application and Guidance documents; (7) formulates and interprets program-related policies; (8) coordinates the documentation of all science, evaluation, and new models of care products with HRSA HIV/AIDS programs; (9) coordinates technical assistance plans and activities with the Division of Training and Technical Assistance and manages program specific technical assistance; (10) plans and develops collaborative efforts in the scientific aspects of Bureau programs with other HHS components, Federal departments, universities, and other scientific organizations; (11) organizes, guides and coordinates the Bureau's scientific planning and development activities in epidemiology, research, and demonstrations; (12) plans and coordinates Bureau participation in scientific organizations, including scientific clearance of presentations and articles for publications; (13) studies and analyzes trends in health care, including availability, access distribution, organization, and financing to determine if the Bureau activities address HIV/AIDS issues in an effective, efficient manner; and (14) coordinates and consults with State and local health departments, other components of the Department, other Federal agencies and/or outside groups on the implementation of Office programs.

19. In the HIV/AIDS Bureau delete the functional statement for the Division of Service Systems (RV5) in its entirety and replace as follows:

Division of Service Systems (RV5)

Administers Bureau programs and activities and manages funds and other resources related to the provision of coordinated comprehensive HIV health care and support services, including reimbursement for treatment with life-prolonging drugs, for persons with HIV/AIDS. Specifically: (1) Directs and manages the implementation of Parts A and B of Title XXVI of the PHS Act including Emergency Relief Grants (Title I), HIV CARE Grants (Title II), and State AIDS Drug Assistance programs; (2) provides program implementation proposals and plans, and the interpretation of legislation and regulations; (3) monitors HIV services planning and delivery program in States and Cities and provides administrative, strategic, and programmatic direction to grantees to encourage efficient, coordinated treatment of persons with HIV infection; (4) develops Program Application and Guidance documents; (5) develops requirements, guidance and monitors State and territorial programs for medical therapies established to ensure that these treatments are integrated into the system of health care services; (6) promotes the development of State treatment program formularies that include classes of drugs necessary for the proper treatment of people with HIV infection; (7) formulates and interprets program related policies; (8) coordinates technical assistance plans and activities with the Division of Training and Technical Assistance; and (9) coordinates and consults with State and local health departments, other components of the Department, other Federal agencies and/or outside groups on the implementation of Division programs.

20. In the HIV/AIDS Bureau delete the functional statement for the Division of Training and Technical Assistance (RV7) in its entirety and replace as follows:

Division of Training and Technical Assistance (RV7)

Coordinates, designs, directs and administers HIV/AIDS-related planning, training, technical assistance and extramural authorities and activities within the Agency. Advises on training and education activities pertaining to the administration of the Bureau's programs. Specifically: (1) Directs and manages the implementation of the AIDS Education and Training Centers (AETC) program of the CARE Act, Title XXVI, Part F of the PHS Act; (2) identifies technical assistance needs and develops technical assistance packages, conducts programs, meetings, and activities to meet such needs; (3) convenes consultation meetings with grantees, providers, representatives of professional and political organizations, and advocacy groups; (4) develops Program Application and Guidance documents for the AETC program; (5) develops and manages mechanisms and resources to address technical assistance needs and support Division/Bureau technical assistance plans and programs; (6) formulates and interprets program-related policies; (7) coordinates and manages the Bureau's HIV-related managed care activities; (8) serves as the Bureau's focal points for advising and coordinating with advisory committees and other external organizations on policies regarding health care delivery and HIV/AIDS prevention, treatment, education and technical assistance; (9) develops outreach activities to assure that target populations are aware of the benefits and availability of HRSA HIV/AIDS programs; (10) provides program implementation proposals and plans, and the interpretation of legislation and regulations; and (11) coordinates and consults with State and local health departments, other components of the Department, other Federal agencies and/or outside groups on the implementation of Division programs.

21. Revise the functional statement for the Bureau of Health Professions (RP) as follows:

Bureau of Health Professions (RP)

Provides national leadership in coordinating, evaluating, and supporting the development and utilization of the Nation's health personnel. Specifically: (1) Assesses the Nation's health personnel supply and requirements and forecasts supply and requirements for future time periods under a variety of health resources utilization assumptions; (2) collects and analyzes data and disseminates information on the characteristics and capacities of the Nation's health personnel production systems; (3) proposes new or modifications to existing Departmental policies and programs related to health personnel development and utilization; (4) develops, tests and demonstrates new and improved approaches to the development and utilization of health personnel within various patterns of health care delivery and financing systems; (5) provides financial support to institutions and individuals for health professions education programs; (6) administers Federal programs for targeted health personnel development and utilization; (7) provides leadership for promoting equity and diversity in access to health services and health careers for under-represented minority groups; (8) provides technical assistance, consultation and special financial assistance to national, State, and local agencies, organizations, and institutions for the development, production, utilization, and evaluation of health personnel; (9) provides grantees/States with accurate and timely interpretations of the Bureau's program expectations, requirements, guidances, and Federal legislation; (10) coordinates with the programs of other agencies within the Department, and in other Federal Departments and agencies concerned with health personnel development and health care services; (11) provides liaison and coordinates with non-Federal organizations and agencies concerned with health personnel development and utilization; (12) serves as a focus for technical assistance activities in the internal aspects of health personnel development; (13) administers the National Practitioner Data Bank Program; (14) administers the Healthcare Integrity and Protection Data Bank Program; (15) administers the Ricky Ray Hemophilia Relief Fund Program; (16) provides direction and leadership to the Children's Hospitals Graduate Medical Education (CHGME) Payment Program; (17) administers the National Health Service Corps Program which assures accessibility of health care in underserved areas; (18) plans the activities of the National Health Services Corps Advisory Council; (19) administers the Public Health Service Scholarship Training Program and the National Health Service Corps Scholarship Loan Repayment Program; (20) administers the designation of health professional shortage areas and medically-underserved populations; (21) administers the Community Scholarship Program; (22) administers the State Loan Repayment Program; (23) administers the Nursing Education Loan Repayment program; and (24) provides direction and leadership for the Federal Credentialing Program.

22. In the Bureau of Health Professions abolish the Office of Peer Review (RPG).

23. In the Bureau of Health Professions revise the functions of the Office of Program Support (RP1) as follows:

Office of Program Support (RP1)

Plans, directs, coordinates and evaluates Bureau-wide administrative management activities. Maintains close liaison with officials of the Bureau, Agency, the Office of Public Health and Science, and the Office of the Secretary on management and support activities. Specifically: (1) Serves as the Bureau's principal source for management and administrative advice and assistance; (2) provides advice, guidance and coordinates personnel activities for the Bureau; (3) directs and coordinates the allocation of personnel resources; (4) provides organization and management analysis, develops policies and procedures for internal operation and interprets and implements the Bureau's management policies, procedures and systems; (5) develops and coordinates Bureau program and administrative delegations of authority activities; (6) provides guidance to the Bureau on financial management activities; (7) provides Bureau-wide support services such as supply management, equipment utilization, printing, property management, space management, records management and management reports; (8) manages the Bureau's performance management systems; and (9) develops general guidance and criteria related to the Bureau's grant programs.

24. In the Bureau of Health Professions revise the functions of the Division of National Health Service Corps (RPH) as follows:

Division of National Health Service Corps (RPH)

Provides (1) strategic planning and overall program policy guidance and oversight to the National Health Service Corps (NHSC); (2) initiates national program and policy changes, including regulatory and statutory amendments to ensure NHSC consistency with evolving national health care policy; (3) supports the NHSC National Advisory Council (NAC); (4) provides national NHSC leadership, integration and coordination with HRSA and other Departmental programs serving or impacting the Nation's underserved communities and populations; (5) coordinates NHSC policy on primary and other health care manpower issues, and works with a wide variety of national, regional, State and local constituencies in ensuring their effective implementation; (6) directs and administers the Public Health Service Scholarship Training Program, the NHSC Loan Repayment Program and the NHSC Scholarship Program; (7) develops and implements program plans and policies and operating and evaluation plans and procedures; (8) monitors obligatory service requirements and conditions of deferment for compliance; (9) provides guidance and technical assistance for educational institutions on the NHSC scholarship program; (10) maintains liaison with, and provides assistance to, program-related public and private professional organizations and institutions; (11) coordinates financial aspects of programs with educational institutions; (12) develops program data needs, formats and reporting requirements including collection, collation, analysis and dissemination of data; (13) participates in the development of forward plans, and budgets including recruitment, deferment and service monitoring systems; and (14) develops Program Application and Guidance documents.

25. Revise the functional statement for the Bureau of Primary Health Care (RC) as follows:

Bureau of Primary Health Care (RC)

Provides national leadership in developing, coordinating, evaluating, and assuring access to comprehensive preventive and primary health care services and improving the health status of the Nations' underserved and vulnerable populations. Specifically, the Bureau: (1) Assesses the Nation's health care needs of underserved populations; (2) assists communities in providing quality health care services, demonstrating new and improved approaches for providing access to healthcare; (3) administers the Consolidated Health Center Program; (4) develops comprehensive integrated systems of care for underserved communities and populations; (5) decreases health disparities through the targeting of resources to those populations at increased risk of negative health outcomes; (6) promotes the integration of primary care services with mental health and dental health services; (7) develops innovative strategies for serving special populations and difficult to serve sub-populations; (8) provides leadership for promoting equity, diversity, and cultural competency in access to health care services for underserved populations; (9) coordinates with various other organizations involved in health care access and utilization, integrated systems of care, and improvement of health status for underserved populations; (10) supports the efforts of other organizations in their efforts to meet the needs of vulnerable, under-served, and special populations; (11) provides policy leadership, programmatic direction and consultation on activities related to community-based primary health care; (12) administers the Black Lung Clinics Program and the Native Hawaiian Health Systems Program; (13) provides leadership and direction for the National Hansen's Disease Program; (14) administers a national health-care program in support of the Immigration and Naturalization Service; and (15) administers the Section 340B Drug Pricing Program.

26. In the Office of Special Programs (RR), delete the functional statement in its entirety and replace as follows:

Office of Special Programs (RR)

Provides the overall leadership and direction for the procurement allocation, and transplantation of human organs and bone marrow; programmatic, financial and architectural/engineering support for construction/renovation programs; operation of the Vaccine Injury Compensation Program and the State Planning Grants Program. Specifically: (1) Administers the Organ Procurement and Transplantation Network and the Scientific Registry of Transplant Recipients to assure compliance with Federal regulations and policies; (2) administers the National Marrow Donor Program in matching volunteer unrelated marrow donors for transplants and studying the effectiveness of unrelated marrow donors for transplants and related treatment; (3) develops and maintains a national program of grants and contracts to organ procurement organizations and other entities to increase the availability of various organs to transplant candidates; (4) manages national programs for compliance with uncompensated care and other assurances; (5) directs and administers Section 242 hospital mortgage insurance program (via inter-agency agreement with HUD) and HHS direct and guaranteed construction loan repayment; (6) directs and administers the construction/renovation/equipping of health care and other facilities; (7) directs and administers the National Vaccine Injury Compensation Program; and (8) directs and administers the State Planning Grants Program.

Delegation of Authority

All delegations of authority which were in effect immediately prior to the effective date hereof have been continued in effect in them or their successors pending further redelegation. I hereby ratify and affirm all actions taken by any DHHS official which involved the exercise of these authorities prior to the effective date of this delegation.

This reorganization is effective December 23, 2002.

Dated: December 23, 2002.
Elizabeth M. Duke,
Administrator.

[FR Doc. 03-294 Filed 1-6-03; 8:45 am]

BILLING CODE 4165-15-P